DEPARTMENT OF STATE

[Public Notice 9982]

Advisory Committee on International Economic Policy; Notice of Charter Renewal

The Department of State has renewed the charter of the Advisory Committee on International Economic Policy (“the Committee”).

The Committee provides advice on opportunities and challenges in international economic policy, including performance of the following functions: (a) To provide information and advice on the effective integration of economic interests into overall foreign policy; (b) to appraise the role of international economic institutions; and (c) to provide information and advice on the Department of State's role in advancing U.S. economic and commercial interests in the global economy. The Committee's activities are advisory only.

The Committee is established under the general authority of the Secretary of State and the Department of State as set forth in Title 22 of the United States Code, in particular section 2656 of that Title and consistent with Federal Advisory Committee Act (5 U.S.C., Appendix).

For additional information, contact Alan Krill, Bureau of Economic and Business Affairs, at (202) 647-2231, or KrillA@state.gov.

Alan Krill,
Designated Federal Officer, Department of State.

[FR Doc. 2017-08717 Filed 4-28-17; 8:45 am]

BILLING CODE 4710-AE-P